DEPARTMENT OF TRANSPORTATION

Federal Aviation Administration

Temporary Exclusion of the Assessment of Overflight Fees for Humanitarian Flights Related to the January 12, 2010, Earthquake in Haiti

AGENCY: Federal Aviation Administration (FAA), DOT.

ACTION: Notice of determination by the FAA to exclude the assessment of Overflight Fees for humanitarian flights in response to the earthquake in Haiti.

SUMMARY: On January 12, 2010, the nation of Haiti was hit by a devastating earthquake near the heaviest populated part of the country, its capital, Port-au-Prince. Within hours, there was a significant increase in the volume of air traffic in the area as the world responded with many types of emergency relief and assistance. Since the FAA is the International Civil Aviation Organization-designated provider of air navigation services in much of the Caribbean just north of Haiti and north and east of the Dominican Republic, many of these humanitarian flights go through U.S.-controlled airspace and incur charges by the FAA (known as “Overflight Fees”) for the air navigation services provided. This Notice advises all concerned of the determination by the FAA to exclude temporarily from its Overflight Fee bills any charges for humanitarian flights responding to the earthquake in Haiti.

SUPPLEMENTARY INFORMATION: The FAA bills monthly for air navigation and related services provided to certain aircraft as set out in 49 CFR part 187. The charge for these services, called Overflight Fees, is typically billed on or about the 10th of each month. The FAA has excluded from billing all flights in and out of Haiti during January (after the date of the earthquake), February and March on the presumption that the vast majority of such Haitian flights in the immediate aftermath of the earthquake are humanitarian in nature. Beginning with the invoices for the month of April, which are expected to be issued during the week of May 10-14, 2010, the FAA will bill flights to and from Haiti in the usual (pre-earthquake) manner. Operators of humanitarian flights related to the earthquake may request reconsideration of charges by the process described below.

The FAA is also aware that there were numerous humanitarian flights flown in response to the earthquake in and out of the Dominican Republic and possibly other points in the Caribbean. Since the FAA cannot determine by the track of such flights whether they were in fact humanitarian flights for Haiti, all such flights have been billed for Overflight Fees that are normally applicable. Reconsideration of such fees for Haitian humanitarian flights may be requested as described below.

Any entity that has been billed an Overflight Fee for a flight that was for humanitarian relief related to the earthquake in Haiti may request a reconsideration of the applicable fee by submitting a written statement to the FAA identifying the flight in question, providing an explanation of the purpose of the flight and a certification that the sole purpose of the flight was to provide aid or relief associated with the earthquake. This documentation should be provided either by mail to Federal Aviation Administration, Attn: Michelle Leissner, General Accounting Division (AMZ-350), P.O. Box 25082, Oklahoma City, OK 73125, USA or by e-mail to 9-AMC-AMZ-OVERFLIGHT-FEES@faa.gov.

The FAA intends to continue this process for reconsideration of Overflight Fees billed to humanitarian flights related to the Haiti earthquake for the foreseeable future, but may cease such reconsideration at any time. If and when such a decision is made, the FAA will provide notification with its monthly bills.

FOR FURTHER INFORMATION CONTACT: Mr. David Rickard, Manager, Financial Analysis (AFC-300), FAA Office of Financial Controls, 800 Independence Avenue, SW., Washington, DC 20591, or by e-mail at david.rickard@faa.gov.

Issued in Washington, DC on May 5, 2010.
Ramesh K. Punwani,
Assistant Administrator for Financial Services/CFO, Federal Aviation Administration.

[FR Doc. 2010-11152 Filed 5-10-10; 8:45 am]

BILLING CODE 4910-13-P